DEPARTMENT OF ENERGY

Federal Energy Regulatory Commission

[Docket No. CP20-4-000]

Notice of Request Under Blanket Authorization; Vector Pipeline, L.P.

Take notice that on October 15, 2019, Vector Pipeline, L.P. (Vector) Post Office Box 1087, Colorado Springs, Colorado 80944, filed a prior notice request pursuant to sections 157.205 and 157.208 of the Commission's regulations under the Natural Gas Act and its blanket certificate issued in Docket No. CP98-135-000 for authorization to construct and operate a delivery lateral consisting of approximately 1.24 miles of 24-inch diameter pipeline located in St. Clair County, Michigan. Specifically, Vector proposes to construct the lateral to connect its existing system to a new 1,100 Megawatts natural gas-fired electric generating facility being constructed by DTE Electric Company in St. Clair County, Michigan. Vector states that is has designed the proposed facilities with up to a maximum capacity of 525,000 Dth/d to accommodate this load and a possible future expansion of the plant. The total cost of this Project is approximately $21.5 million, all as more fully set forth in the application which is on file with the Commission and open to public inspection. The filing may also be viewed on the web at http://www.ferc.gov using the “eLibrary” link. Enter the docket number excluding the last three digits in the docket number field to access the document. For assistance, contact FERC at FERCOnlineSupport@ferc.gov or call toll-free, (866) 208-3676 or TTY, (202) 502-8659.

Any questions regarding this application should be directed Ms. Amy S. Bruhn, Manager, Regulatory and Administration, Vector Pipeline, LLC, the General Partner of Vector Pipeline L.P.; 38705 Seven Mile Road, Suite 490, Livonia, Michigan 48152, phone (734) 462-0237, fax (734) 462-0231, or email: amy.bruhn@vector-pipeline.com.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

Pursuant to section 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the EA for this proposal. The filing of the EA in the Commission's public record for this proceeding or the issuance of a Notice of Schedule for Environmental Review will serve to notify federal and state agencies of the timing for the completion of all necessary reviews, and the subsequent need to complete all federal authorizations within 90 days of the date of issuance of the Commission staff's EA.

Persons who wish to comment only on the environmental review of this project should submit an original and two copies of their comments to the Secretary of the Commission. Environmental commenter's will be placed on the Commission's environmental mailing list and will be notified of any meetings associated with the Commission's environmental review process. Environmental commenters will not be required to serve copies of filed documents on all other parties. However, the non-party commenters will not receive copies of all documents filed by other parties or issued by the Commission, and will not have the right to seek court review of the Commission's final order.

The Commission strongly encourages electronic filings of comments, protests, and interventions via the internet in lieu of paper. See 18 CFR 385.2001(a) (1) (iii) and the instructions on the Commission's website (www.ferc.gov) under the “e-Filing” link. Persons unable to file electronically should submit original and 3 copies of the protest or intervention to the Federal Energy Regulatory Commission, 888 First Street NE, Washington, DC 20426.

Dated: October 25, 2019.
Kimberly D. Bose,
Secretary.

[FR Doc. 2019-23841 Filed 10-31-19; 8:45 am]

BILLING CODE 6717-01-P